DEPARTMENT OF THE INTERIOR

Bureau of Land Management

[NV-930-1430-ET; NVN-77821; 5-08807]

Public Land Order No. 7634; Withdrawal of Public Land for the United States Air Force; Nevada

AGENCY: Bureau of Land Management, Interior.

ACTION: Public Land Order.

SUMMARY: This order withdraws 1,979 acres of public land from surface entry and mining, for a period of 20 years, and reserves the land for use by the United States Air Force to protect support facilities for the safe and secure operation of national defense activities at the Nevada Test and Training Range.

DATES: Effective Date: May 6, 2005.

FOR FURTHER INFORMATION CONTACT: Dennis J. Samuelson, BLM Nevada State Office, P.O. Box 12000, Reno, Nevada 89520, 775-861-6532.

Order

By virtue of the authority vested in the Secretary of the Interior by Section 204 of the Federal Land Policy and Management Act of 1976, 43 U.S.C. 1714 (2000), it is ordered as follows:

1. Subject to valid existing rights, the following described public land is hereby withdrawn from settlement, sale, location, or entry under the general land laws, including the United States mining laws (30 U.S.C. Ch. 2 (2000)), but not from leasing under the mineral leasing laws, for a period of 20 years, and reserved for use by the United States Air Force to protect support facilities for the safe and secure operation of national defense activities at the Nevada Test and Training Range.

Mount Diablo Meridian

From the northwest corner of section 12, T. 5 N., R. 50 E.,

Proceed southeast 1,874.10 feet on a bearing of 155°48′00″ to starting point;

Thence southeast 5,551.20 feet on a bearing of 122°54′00″;

Thence northeast 15,530.30 feet on a bearing of 33°18′00″;

Thence northwest 5,551.20 feet on a bearing of 302°54′00″;

Thence southwest 15,530.30 feet on a bearing of 213°18′00″ to the starting point, excepting Tybo Road.

The area described contains 1,979 acres in Nye County.

2. The withdrawal made by this order does not alter the applicability of those public land laws governing the use of the land under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) (2000), the Secretary determines that the withdrawal shall be extended.

(Authority: 43 U.S.C. 1714(a); 43 CFR 2310.3-3(b)(1))

Dated: April 20, 2005.
Rebecca W. Watson,
Assistant Secretary—Land and Minerals Management.

[FR Doc. 05-9091 Filed 5-5-05; 8:45 am]

BILLING CODE 4310-HC-P